DEPARTMENT OF HOMELAND SECURITY

Coast Guard

33 CFR Part 165

[Docket No. USCG-2010-0063]

Safety Zones; Annual Firework Displays Within the Captain of the Port, Puget Sound Area of Responsibility

AGENCY: Coast Guard, DHS.

ACTION: Notice of enforcement of regulation.

SUMMARY: The Coast Guard will enforce the fireworks safety zone in Possession Sound from 5 p.m. on September 11, 2010 through 1 a.m. on September 12, 2010. This action is necessary to prevent injury and to protect life and property of the maritime public from the hazards associated with firework displays. During the enforcement period, entry into, transit through, mooring, or anchoring within these zones is prohibited unless authorized by the Captain of the Port, Puget Sound or Designated Representative.

DATES: The regulations in 33 CFR 165.1332 will be enforced from 5 p.m. on September 11, 2010 through 1 a.m. on September 12, 2010.

FOR FURTHER INFORMATION CONTACT: If you have questions on this notice, call or e-mail LTJG Ashley M. Wanzer, Sector Seattle Waterways Management Division, Coast Guard; telephone 206-217-6175, e-mail SectorSeattleWWM@uscg.mil.

SUPPLEMENTARY INFORMATION: The Coast Guard will enforce the safety zone regulation for the annual Mukilteo Lighthouse Festival in 33 CFR 165.1332 from 5 p.m. on September 11, 2010 until 1 a.m. on September 12, 2010. This safety zone will extend a 300 yard radius from a launch site located at 47°56.9′ N 122″18.6′ W.

The special requirements listed in 33 CFR 165.1332, which are explained in more detail in the Federal Register (75 FR 33700) published on June 15, 2010, apply to the activation and enforcement of these safety zones.

All vessel operators who desire to enter the safety zone must obtain permission from the Captain of the Port or Designated Representative by contacting either the on-scene patrol craft on VHF Ch 13 or Ch 16 or the Coast Guard Sector Seattle Joint Harbor Operations Center (JHOC) via telephone at 206-217-6002.

The Coast Guard may be assisted by other Federal, State, or local law enforcement agencies in enforcing this regulation.

This notice is issued under authority of 33 CFR 165.1332 and 33 CFR 165 and 5 U.S.C. 552 (a). In addition to this notice, the Coast Guard will provide the maritime community with extensive advanced notification of the safety zones via the Local Notice to Mariners and marine information broadcasts on the day of the event. If the COTP or Designated Representative determines that the regulated area need not be enforced for the full duration stated in this notice, a Broadcast Notice to Mariners will be issued to grant general permission to enter the regulated area.

Dated: July 28, 2010.
S.W. Bornemann,
Captain, U.S. Coast Guard, Captain of the Port, Puget Sound.

[FR Doc. 2010-20117 Filed 8-13-10; 8:45 am]

BILLING CODE 9110-04-P